DEPARTMENT OF THE TREASURY

Internal Revenue Service

26 CFR Part 1

Treatment of Overall Foreign and Domestic Losses

CFR Correction

In Title 26 of the Code of Federal Regulations, Part 1 (§§ 1.851 to 1.907), revised as of April 1, 2012, on page 810, in § 1.904(f)-0, under the heading § 1.904(f)-1 Overall foreign loss and the overall foreign loss account., listings for paragraphs (d)(4)(i) and (ii) are removed.

[FR Doc. 2013-07111 Filed 3-25-13; 8:45 am]

BILLING CODE 1505-01-D